DEPARTMENT OF HEALTH AND HUMAN SERVICES

Centers for Medicare & Medicaid Services

[Document Identifier: CMS-10048]

Agency Information Collection Activities: Proposed Collection; Comment Request

AGENCY: Centers for Medicare & Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. Type of Information Collection Request: Extension of a currently approved collection; Title of Information Collection: Health Insurance Flexibility and Accountability Section 1115 Model Waiver; Form No.: CMS-10048 (OMB# 0938-0848); Use: This Health Insurance Flexibility and Accountability (HIFA) Section 1115 Model Demonstration will enable states to use Medicaid and SCHIP funds in concert with private health insurance options to expand coverage to low-income uninsured individuals, with a focus on those with income at or below 200 percent of the Federal poverty level. The model demonstration application will facilitate State efforts in designing programs to cover the uninsured; Frequency: Other: 5 years after initial submission; Affected Public: State, Local or Tribal Government; Number of Respondents: 25; Total Annual Responses: 25; Total Annual Hours: 250.

To obtain copies of the supporting statement and any related forms for the proposed paperwork collections referenced above, access CMS's Web site address at http://www.hcfa.gov/regs/prdact95.htm, or e-mail your request, including your address, phone number, OMB number, and HCFA document identifier, to Paperwork@hcfa.gov, or call the Reports Clearance Office on (410) 786-1326. Written comments and recommendations for the proposed information collections must be mailed within 60 days of this notice directly to the CMS Paperwork Clearance Officer designated at the following address: CMS, Office of Information Services, Security and Standards Group, Division of CMS Enterprise Standards, Attention: Julie Brown, CMS-10048, Room N2-14-26, 7500 Security Boulevard, Baltimore, Maryland 21244-1850.

Dated: October 17, 2001.
John P. Burke III,
Reports Clearance Officer, Security and Standards Group, Division of CMS Enterprise Standards.

[FR Doc. 01-26783 Filed 10-23-01; 8:45 am]

BILLING CODE 4120-03-P